DEPARTMENT OF TRANSPORTATION

Office of the Secretary

Aviation Proceedings, Agreements Filed the Week Ending September 4, 2010

The following Agreements were filed with the Department of Transportation under the sections 412 and 414 of the Federal Aviation Act, as amended (49 U.S.C. 1382 and 1384) and procedures governing proceedings to enforce these provisions. Answers may be filed within 21 days after the filing of the application.

Docket Number: DOT-OST-2010-0218.

Date Filed: August 31, 2010.

Parties: Members of the International Air Transport Association.

Subject: Finally Adopted Resolution 600i, Recommended Practice 1601, and Recommended Practice 1670.

Intended effective date: 1 October 2010.

Renee V. Wright,
Program Manager, Docket Operations, Federal Register Liaison.

[FR Doc. 2010-23508 Filed 9-20-10; 8:45 am]

BILLING CODE 4910-9X-P